DEPARTMENT OF VETERANS AFFAIRS

[OMB Control No. 2900-0165]

Agency Information Collection (Financial Status Report) Activities Under OMB Review

AGENCY: Office of Management, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before June 17, 2009.

ADDRESSES: Submit written comments on the collection of information through http://www.Regulations.gov or to VA's OMB Desk Officer, Office of Information and Regulatory Affairs, New Executive Office Building, Room 10235, Washington, DC 20503, (202) 395-7316. Please refer to “OMB Control No. 2900-0165” in any correspondence.

FOR FURTHER INFORMATION CONTACT: Denise McLamb, Enterprise Records Service (005R1B), Department of Veterans Affairs, 810 Vermont Avenue, NW., Washington, DC 20420, (202) 461-7485, FAX (202) 273-0443 or e-mail denise.mclamb@va.gov. Please refer to “OMB Control No. 2900-0165.”

SUPPLEMENTARY INFORMATION: Title: Financial Status Report, VA Form 5655.

OMB Control Number: 2900-0165.

Type of Review: Extension of a currently approved collection.

Abstract: Claimants complete VA Form 5655 to report their financial status. VA uses the data collected to determine the claimant's eligibility for a waiver of collection, setup a payment plan or for the acceptance of a compromise offer on their VA benefit debt.

An agency may not conduct or sponsor, and a person is not required to respond to a collection of information unless it displays a currently valid OMB control number. The Federal Register Notice with a 60-day comment period soliciting comments on this collection of information was published on March 12, 2009 at pages 10809-10810.

Affected Public: Individuals or households.

Estimated Annual Burden: 45,553 hours.

Estimated Average Burden per Respondent: 1 hour.

Frequency of Response: On occasion.

Estimated Number of Respondents: 45,553.

Dated: May 12, 2009.
By direction of the Secretary.
Denise McLamb,
Program Analyst, Enterprise Records Service.

[FR Doc. E9-11453 Filed 5-15-09; 8:45 am]

BILLING CODE A320-01-P